DEPARTMENT OF THE INTERIOR

Geological Survey

Call for Nominations to the National Geospatial Advisory Committee

AGENCY: U.S. Geological Survey, Interior.

ACTION: Call for nominations.

SUMMARY: The Department of the Interior is seeking nominations to serve on the National Geospatial Advisory Committee (NGAC). The NGAC is a Federal Advisory Committee established under the authority of the Federal Advisory Committee Act (FACA). The NGAC provides advice and recommendations to the Secretary of the Interior through the Federal Geographic Data Committee (FGDC) related to management of Federal geospatial programs, development of the National Spatial Data Infrastructure, and the implementation of Office of Management and Budget Circular A-16 and Executive Order 12906. The NGAC reviews and comments on geospatial policy and management issues and provides a forum for views of non-Federal stakeholders in the geospatial community.

DATES: Nominations to participate on the NGAC must be received by August 27, 2018.

ADDRESSES: Send nominations electronically to ngacnominations@fgdc.gov, or by mail to John Mahoney, U.S. Geological Survey, U.S. Department of the Interior, 909 First Avenue, Suite 800, Seattle, WA 98104.

FOR FURTHER INFORMATION CONTACT: John Mahoney, USGS (206-220-4621). Additional information about the NGAC and the nomination process is posted on the NGAC web page at www.fgdc.gov/ngac.

SUPPLEMENTARY INFORMATION: The NGAC conducts its operations in accordance with the provisions of FACA. It reports to the Secretary of the Interior through the FGDC and functions solely as an advisory body. The NGAC provides recommendations and advice to the Department and the FGDC on policy and management issues related to the effective operation of Federal geospatial programs.

The NGAC includes up to 30 members, selected to generally achieve a balanced representation of the viewpoints of the various stakeholders involved in national geospatial activities. NGAC members are appointed for staggered terms, and nominations received through this call for nominations may be used to fill vacancies on the NGAC that will become available in 2018 and 2019. Nominations will be reviewed by the FGDC and additional information may be requested from nominees. Final selection and appointment of NGAC members will be made by the Secretary of the Interior. Individuals who are Federally registered lobbyists are ineligible to serve on all FACA and non-FACA boards, committees, or councils in an individual capacity. The term “individual capacity” refers to individuals who are appointed to exercise their own individual best judgment on behalf of the Government, such as when they are designated Special Government Employees, rather than being appointed to represent a particular interest.

The NGAC meets approximately 3-4 times per year. NGAC members will serve without compensation, but travel and per diem costs will be provided by the USGS. The USGS will also provide necessary support services to the NGAC. NGAC meetings are open to the public. Notice of NGAC meetings are published in the Federal Register at least 15 days before the date of the meeting. The public will have an opportunity to provide input at these meetings.

Nominations may come from employers, associations, professional organizations, or other geospatial organizations. Nominations should include a resume providing an adequate description of the nominee's qualifications, including information that would enable the Department of the Interior to make an informed decision regarding meeting the membership requirements of the NGAC and permit the Department of the Interior to contact a potential member. Nominees are strongly encouraged to include supporting letters from employers, associations, professional organizations, and/or other organizations that indicate support by a meaningful constituency for the nominee.

Before including your address, phone number, email address, or other personal identifying information in your nomination, you should be aware that your entire nomination—including your personal identifying information—may be made publicly available at any time. While you may ask us to withhold your personal identifying information from public review, we cannot guarantee that we will be able to do so.

Kenneth Shaffer,
Deputy Executive Director, Federal Geographic Data Committee.

[FR Doc. 2018-14951 Filed 7-12-18; 8:45 am]

BILLING CODE 4311-AM-P